DEPARTMENT OF ENERGY

Federal Energy Regulatory Commission

Combined Notice of Filings # 1

October 31, 2006.

Take notice that the Commission received the following exempt wholesale generator filings:

Docket Number: EG07-6-000.

Applicant: Caithness Long Island, LLC.

Description: Notice of Self-Certification of Exempt Wholesale Generator Status.

Filed Date: 10/27/2006.

Accession Number: 20061027-5084.

Comment Date: 5 p.m. Eastern Time on Friday, November 17, 2006.

Take notice that the Commission received the following electric rate filings:

Docket Numbers: ER99-2948-006; ER00-2918-005; ER00-2917-005; ER05-261-002; ER01-558-004; ER01-557-004; ER01-559-004; ER01-560-004; ER01-556-004; ER01-1654-007; ER01-2641-005; ER05-728-002; ER01-1949-005; ER04-485-002.

Applicants: Baltimore Gas and Electric Company; Constellation Power Source Generation, Inc.; Calvert Cliffs Nuclear Power Plant, Inc.; Constellation Energy Commodities Group, Inc.; Holland Energy, LLC; University Park Energy, LLC; Wolf Hills Energy, LLC; Big Sandy Peaker Plant, LLC; Handsome Lake Energy, LLC; Nine Mile Point Nuclear Station, LLC; High Desert Power Project, LLC; Constellation NewEnergy Commodities Group Main, LLC; Power Provider, LLC; RE Ginna Nuclear Power Plant, LLC.

Description: Constellation Energy Group, Inc submits its notification to FERC that it will no longer treat FPL Group MBR Entities as affiliates under the terms of their respective market-based rate tariffs.

Filed Date: 10/27/2006.

Accession Number: 20061030-0248.

Comment Date: 5 p.m. Eastern Time on Friday, November 17, 2006.

Docket Numbers: ER01-1807-024; ER01-2020-021.

Applicants: Carolina Power & Light Company; Florida Power Corporation.

Description: Carolina Power & Light Co and Florida Power Corp submit a Refund Report pursuant to the Commission's 5/21/03 Order.

Filed Date: 10/26/2006.

Accession Number: 20061026-5022.

Comment Date: 5 p.m. Eastern Time on Thursday, November 16, 2006.

Docket Numbers: ER03-44-005.

Applicants: BOC Energy Services, Inc.

Description: BOC Energy Services, Inc submits its notice of non-material change in status.

Filed Date: 10/26/2006.

Accession Number: 20061031-0163.

Comment Date: 5 p.m. Eastern Time on Thursday, November 16, 2006.

Docket Numbers: ER03-515-001.

Applicants: Black Oak Capital, LLC.

Description: Black Oak Capital, LLC submits an amendment to its 9/13/06 triennial updated market analysis.

Filed Date: 10/27/2006.

Accession Number: 20061031-0162.

Comment Date: 5 p.m. Eastern Time on Friday, November 17, 2006.

Docket Numbers: ER06-311-001.

Applicants: New York Independent System Operator, Inc.; New York Transmission Owners.

Description: New York Independent System Operator, Inc. and the New York Transmission Owners submit standard legal terms and conditions for interconnection study agreements pursuant to Order 2006-B, etc.

Filed Date: 10/27/2006.

Accession Number: 20061030-0242.

Comment Date: 5 p.m. Eastern Time on Friday, November 17, 2006.

Docket Numbers: ER06-451-010.

Applicants: Southwest Power Pool, Inc.

Description: Southwest Power Pool, Inc submits revisions to its OATT in Compliance to Commission's 9/26/06 Order.

Filed Date: 10/26/2006.

Accession Number: 20061030-0247.

Comment Date: 5 p.m. Eastern Time on Thursday, November 16, 2006.

Docket Numbers: ER07-72-000.

Applicants: Plymouth Energy, LLC.

Description: Plymouth Energy, LLC submits a notice of cancellation of FERC Electric Tariff, Original Volume 1.

Filed Date: 10/26/2006.

Accession Number: 20061027-0001.

Comment Date: 5 p.m. Eastern Time on Thursday, November 16, 2006.

Docket Numbers: ER07-73-000.

Applicants: CenterPoint Energy Houston Electric, LLC.

Description: CenterPoint Energy Houston Electric, LLC submits First Revised Sheet 2 et al. to FERC Electric Tariff, Fifth Revised Volume 1, to be effective 10/10/06.

Filed Date: 10/26/2006.

Accession Number: 20061030-0160

Comment Date: 5 p.m. Eastern Time on Thursday, November 16, 2006.

Docket Numbers: ER07-74-000.

Applicants: Caithness Long Island, LLC.

Description: Petition of Caithness Long Island, LLC for order accepting market-based rate tariff for filing and granting waivers and blanket approvals.

Filed Date: 10/26/2006.

Accession Number: 20061030-0162.

Comment Date: 5 p.m. Eastern Time on Thursday, November 16, 2006.

Docket Numbers: ER07-76-000; ER06-1451-001.

Applicants: Niagara Mohawk Power Corporation.

Description: Niagara Mohawk Power Corporation submits Notice of Termination of its FERC Rate Schedule 315 proposed effective 11/1/06.

Filed Date: 10/25/2006.

Accession Number: 20061030-0161.

Comment Date: 5 p.m. Eastern Time on Wednesday, November 15, 2006.

Docket Numbers: ER07-77-000.

Applicants: Reliant Energy Etiwanda, Inc.

Description: Reliant Energy Etiwanda Inc submits its Notice of Cancellation of the Must-Run Service Agreement between Reliant Etiwanda and the California Independent System Operator Corp.

Filed Date: 10/27/2006.

Accession Number: 20061030-0154.

Comment Date: 5 p.m. Eastern Time on Friday, November 17, 2006.

Docket Numbers: ER07-78-000.

Applicants: Southern California Edison Company.

Description: Southern California Edison Co submits revisions to its Transmission Owner Tariff, FERC Electric Tariff, Second Revised Volume 6 to reflect the annual update of the Transmission Revenue Balancing Account Adjustment.

Filed Date: 10/27/2006.

Accession Number: 20061030-0143.

Comment Date: 5 p.m. Eastern Time on Friday, November 17, 2006.

Docket Numbers: ER07-79-000.

Applicants: Entergy Services Inc.

Description: Entergy Services, Inc submits a Revised Interconnection Agreement between Cleco Power, LLC, Entergy Gulf States Inc and Entergy Louisiana, LLC.

Filed Date: 10/27/2006.

Accession Number: 20061030-0125.

Comment Date: 5 p.m. Eastern Time on Friday, November 17, 2006.

Docket Numbers: ER07-80-000.

Applicants: ACN Utility Services, Inc.

Description: ACN Utility Services, Inc submits Notice of Cancellation of its rate tariff, Original Volume No. 1.

Filed Date: 10/26/2006.

Accession Number: 20061030-0245.

Comment Date: 5 p.m. Eastern Time on Thursday, November 16, 2006.

Docket Numbers: ER07-81-000.

Applicants: Wisconsin Public Service Corporation.

Description: Wisconsin Public Service Corporation submits a revised rate schedule sheet, Fourth Revised Sheet 227 to the Second Revised Rate Schedule FERC No. 51.

Filed Date: 10/27/2006.

Accession Number: 20061030-0244.

Comment Date: 5 p.m. Eastern Time on Friday, November 17, 2006.

Docket Numbers: ER07-82-000.

Applicants: Arizona Public Service Company.

Description: Arizona Public Service Company submits revisions to its OATT, Thirteenth Revised Volume No. 2 in compliance with FERC Order 2006B.

Filed Date: 10/27/2006.

Accession Number: 20061030-0246.

Comment Date: 5 p.m. Eastern Time on Friday, November 17, 2006.

Docket Numbers: ER07-83-000.

Applicants: Arizona Public Service Company.

Description: Arizona Public Service Company submits revisions to its OATT, Thirteenth Revised Volume No. 2, First Revised Sheet No. 194 in Compliance filing to the FERC Order 676.

Filed Date: 10/27/2006.

Accession Number: 20061030-0243.

Comment Date: 5 p.m. Eastern Time on Friday, November 17, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-18806 Filed 11-7-06; 8:45 am]

BILLING CODE 6717-01-P